DEPARTMENT OF JUSTICE

Notice of Proposed Consent Decree Under the Clean Air Act

Notice is hereby given that on February 21, 2020, a proposed Third Amendment to Consent Decree (“Third Amendment”) in United States, et al. v. Superior Refining Company LLC and Valero Refining—Meraux LLC, Civil Action No. 3:10-cv-00563-bbc, was lodged with the United States District Court for the Western District of Wisconsin.

The underlying Consent Decree was entered into in 2011 and covered petroleum refineries located in Meraux, Louisiana, and Superior, Wisconsin, that were at that time owned by Murphy Oil USA, Inc., and resolved violations of the Clean Air Act that were alleged by the Environmental Protection Agency, the State of Wisconsin and the State of Louisiana. The proposed Third Amendment pertains solely to the refinery located in Superior, Wisconsin, which is now owned by the Superior Refining Company LLC (“Superior Refining”).

Under the proposed Third Amendment, Superior Refining would be required to implement two emissions-reduction projects in the Superior, Wisconsin, area in order to fully mitigate the harm caused by excess emissions resulting from a fire and explosion at the refinery on April 26, 2018. Specifically, Superior Refining would be required to replace older wood-burning stoves and other wood-burning appliances in the area impacted by the excess emissions with new wood-burning stoves and appliances meeting current EPA emission standards for wood stoves, at an estimated cost of $290,000.00. Superior Refining would also be required to implement a mitigation project to install solar photovoltaic panels on the campus of University of Wisconsin—Superior that will produce a total capacity of at least 440 kilowatts, which is expected to reduce both the campus' power demand and associated emissions from the electrical power station serving the campus. In addition, Superior Refining would be required to implement several safety-related enhancements to the design, maintenance, and operation of its alkylation process equipment at the refinery.

The publication of this notice opens a period for public comment on the Third Amendment. Comments should be addressed to the Assistant Attorney General, Environment and Natural Resources Division, and should refer to United States, et al. v. Superior Refining Company LLC and Valero Refining—Meraux LLC, D.J. Ref. No. 90-5-2-1-09186. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $11.75 (25 cents per page reproduction cost) payable to the United States Treasury.

Susan M. Akers,
Assistant Section Chief, Environmental Enforcement Section, Environment and Natural Resources Division.

[FR Doc. 2020-04162 Filed 2-28-20; 8:45 am]

BILLING CODE 4410-15-P